ENVIRONMENTAL PROTECTION AGENCY

[FRL-9806-1]

Reissuance of Final NPDES General Permits for Facilities/Operations That Generate, Treat, and/or Use/Dispose of Sewage Sludge by Means of Land Application, Landfill, and Surface Disposal in EPA Region 8

AGENCY: Environmental Protection Agency (EPA).

ACTION: Notice of issuance of NPDES general permits.

SUMMARY: Region 8 of the EPA is hereby giving notice of its reissuance of the National Pollutant Discharge Elimination System (NPDES) general permits for facilities or operations that generate, treat, and/or use/dispose of sewage sludge by means of land application, landfill, and surface disposal in the States of CO, MT, ND, and WY and in Indian country in the States of CO, MT, ND, SD, WY and UT (except for the Goshute Indian Reservation and the Navajo Indian Reservation). The effective date of the general permits is May 13, 2013.

DATES: The general permits become effective on May 13, 2013 and will expire five years from that date. For appeal purposes, the 120 day time period for appeal to the U.S. Federal Courts will begin May 13, 2013.

FOR FURTHER INFORMATION CONTACT: Additional information concerning the final permits may be obtained from Bob Brobst, EPA Region 8, Wastewater Unit (8P-W-WW), 1595 Wynkoop Street, Denver, CO 80202-1129, telephone (303) 312-6129 or Email at brobst.bob@epa.gov. The administrative record is available by appointment for review and copying, fee for copies may be required, at the EPA Region 8 offices during the hours of 10:00 a.m. to 4:00 p.m. Monday through Friday, Federal holidays excluded. The final general permits, the fact sheet, and additional information may be downloaded from the EPA Region 8 Web page at http://www.epa.gov/region08/water/biosolids/documents.html. Please allow one week after date of this publication for items to be uploaded to the Web page.

SUPPLEMENTARY INFORMATION: The NPDES permit numbers and the areas covered by each general permit are listed below.

State | Permit No. | Area covered by the general permit
Colorado | COG650000 | State of Colorado except for Federal Facilities and Indian country.
| COG651000 | Indian country within the State of Colorado and the portions of the Ute Mountain Indian Reservation located in New Mexico and in Utah.
| COG652000 | Federal Facilities in the State of Colorado, except those located in Indian country, which are covered under permit COG51000.
Montana | MTG650000 | State of Montana except for Indian country.
| MTG651000 | Indian country in the State of Montana.
North Dakota | NDG650000 | State of North Dakota except for Indian country.
| NDG651000 | Indian country within the State of North Dakota (except for Indian country located within the former boundaries of the Lake Traverse Indian Reservation, which are covered under permit SDG651000) and that portion of the Standing Rock Indian Reservation located in South Dakota.
South Dakota | SDG651000 | Indian country within the State of South Dakota (except for the Standing Rock Indian Reservation, which is covered under permit NDG651000), that portion of the Pine Ridge Indian Reservation located in Nebraska, and Indian country located in North Dakota within the former boundaries of the Lake Traverse Indian Reservation.
Utah | UTG651000 | Indian country within the State of Utah except for the Goshute Indian Reservation, Navajo Indian Reservation, and Ute Mountain Indian Reservation (which is covered under permit COG651000).
Wyoming | WYG650000 | State of Wyoming except for Indian country.
| WYG651000 | Indian country within the State of Wyoming.

On February 19, 1993 (58 FR 9248), the EPA promulgated “Standards for the Use or Disposal of Sewage Sludge” (40 CFR part 503) and made revisions to the NPDES regulations to include the permitting of facilities/operations that generate, treat, and/or use/dispose of sewage sludge. The States of South Dakota and Utah currently are the only States in Region 8 that have been authorized to administer the biosolids (sludge) program. In 2007 EPA reissued general permits for facilities or operations that generate, treat, and/or use/dispose of sewage sludge by means of land application, landfill, and surface disposal in the States of CO, MT, ND, and WY and in Indian country in the States of CO, MT, ND, SD, WY and UT (except for the Goshute Indian Reservation and the Navajo Indian Reservation). Those general permits expired on October 19, 2012, but were administratively extended. Proposed reissuance of the general permits was published in the Federal Register on January 4, 2013 (78 FR 727). The public comment period closed on February 19, 2013. Only one comment was received in response to the public notice, a letter from the South Dakota Department of Agriculture. That letter stated “In response, we offer no comments regarding the notice.” Accordingly, the permits are being reissued without any change from the public notice draft.

The renewal permits are very similar to the previous permits. The administrative burden for most of the regulated sources is expected to be less under the general permits than with individual permits, and it will be much quicker to obtain permit coverage with general permits than with individual permits. Facilities or operations that incinerate sewage sludge are not eligible for coverage under these general permits and must apply for an individual permit. The deadlines for applying for coverage under the general permits are given in the permits and the Fact Sheet. Facilities/operations that had coverage under the previous general permit and have submitted a timely request for coverage under this renewal permit are covered automatically under the permits unless the permit issuing authority requires the submittal of a new notice of intent (NOI).

Other Legal Requirements

Section 401(a)(1) Certification: Since these permits do not involve discharges to waters of the United States, certification under § 401(a)(1) of the Clean Water Act is not necessary for the issuance of these permits and certification will not be requested.

Economic Impact (Executive Order 12866): The EPA has determined that the issuance of this general permit is not a “significant regulatory action” under the terms of Executive Order 12866 (58 FR 51735 (October 4, 1993)) and is therefore not subject to formal OMB review prior to proposal.

Paperwork Reduction Act: The EPA has reviewed the requirements imposed on regulated facilities in these proposed general permits under the Paperwork Reduction Act of 1980, 44 U.S.C.-501 et seq. The information collection requirements of these permits have already been approved by the Office of Management and Budget in submissions made for the NPDES permit program under the provisions of the Clean Water Act.

Regulatory Flexibility Act (RFA), 5 U.S.C 601 et seq., as amended by the Small Business regulatory Enforcement Fairness Act (SBREFA): The RFA requires that the EPA prepare a regulatory flexibility analysis for rules subject to the requirements of 5 U.S.C. 553(b) that have a significant impact on a substantial number of small entities. The permit proposed today, however, is not a “rule” subject to the requirements of 5 U.S.C. 553(b) and is therefore not subject to the RFA.

Unfunded Mandates Reform Act: Section 201 of the Unfunded Mandates Reform Act (UMRA), Public Law 104-4, generally requires Federal agencies to assess the effects of their “regulatory actions” defined to be the same as “rules” subject to the RFA) on tribal, state, local governments and the private sector. The permit proposed today, however, is not a “rule” subject to the RFA and is therefore not subject to the requirements of the UMRA.

Authority: Clean Water Act, 33 U.S.C. 1251 et seq.

Dated: April 2, 2013.
Derrith R. Watchman-Moore,
Assistant Regional Administrator, Office of Partnerships and Regulatory Assistance.

[FR Doc. 2013-10050 Filed 4-26-13; 8:45 am]

BILLING CODE 6560-50-P